DEPARTMENT OF THE INTERIOR

Bureau of Land Management

[WY-957-07-1420-BJ]

Notice of Filing of Plats of Survey, Wyoming

AGENCY: Bureau of Land Management, Interior.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the dependent resurvey of portions of the north, south and west boundaries, portions of the subdivisional lines, the 1909 meanders of the Green River, and the subdivision of certain sections, Township 22 North, Range 109 West, Sixth Principal Meridian, Wyoming, Group No. 723, was accepted and filed March 15, 2007.

The plat and field notes representing the dependent resurvey of portions of the north boundary, subdivisional lines and 1909 meanders of the Green River, the subdivision of certain sections, and the metes-and-bounds survey of certain lots in section 2, Township 22 North, Range 110 West, of the Sixth Principal Meridian, Wyoming, Group No. 723, was accepted and filed March 15, 2007.

The plat and field notes representing the dependent resurvey of portions of the south and west boundaries, subdivisional lines and 1909 meanders of the Green River, and the subdivision of certain sections, Township 23 North, Range 110 West, of the Sixth Principal Meridian, Wyoming, Group No. 723, was accepted and filed March 15, 2007.

The plat and field notes representing the dependent resurvey of a portion of the east boundary, a portion of the subdivisional lines, and the subdivision of section 13, Township 24 North, Range 85 West, of the Sixth Principal Meridian, Wyoming, Group No. 753, was accepted April 13, 2007.

The plat and field notes representing the dependent resurvey of a portion of the Fifth Standard Parallel North, through Ranges 92 and 93 West, a portion of the Eleventh Auxiliary Meridian West, through Township 20 North, between Ranges 92 and 93 West, the south boundary, and the subdivisional lines, Township 20 North, Range 93 West, Sixth Principal Meridian, Wyoming, Group No. 754, was accepted August 7, 2007.

Copies of the preceding described plats and field notes are available to the public at a cost of $1.10 per page.

Dated: August 20, 2007.
John P. Lee,
Chief Cadastral Surveyor, Division of Support Services.

[FR Doc. E7-16768 Filed 8-23-07; 8:45 am]

BILLING CODE 4310-22-P